DEPARTMENT OF THE INTERIOR

Bureau of Land Management

[A2407-014-004-065516; #O2412-014-004-047181.1]

Implementing Executive Order 14153 for Special Areas Within the National Petroleum Reserve-Alaska

AGENCY: Bureau of Land Management, Interior.

ACTION: Notice.

SUMMARY: Based on identified deficiencies, inconsistency with the President's and the Department's national energy strategy, and pursuant to direction in Executive Order 14153, “Unleashing Alaska's Extraordinary Resource Potential,” the Bureau of Land Management (BLM), Alaska State Office, is rescinding the BLM notice entitled “Special Areas Within the National Petroleum Reserve in Alaska,” published in the Federal Register on July 17, 2024, and the report entitled “Maximizing Protection in the National Petroleum Reserve-Alaska,” and the memorandum with subject header “BLM Interim Management of special areas within the National Petroleum Reserve-Alaska” that were issued on January 16, 2025.

FOR FURTHER INFORMATION CONTACT: Stephanie Kuhns, Arctic District Manager, at 907-474-2310 or skuhns@blm.gov. Individuals in the United States who are deaf, deafblind, hard of hearing, or have a speech disability may dial 711 (TTY, TDD, or TeleBraille) to access telecommunications relay services. Individuals outside the United States should use the relay services offered within their country to make international calls to the point of contact in the United States.

SUPPLEMENTARY INFORMATION: The National Petroleum Reserve-Alaska (NPR-A) is a 23-million-acre tract managed by the BLM under the authority of the Naval Petroleum Reserves Production Act (NPRPA), 42 U.S.C. 6501 et seq., as amended, the Federal Land Policy and Management Act of 1976, as amended, 43 U.S.C. 1701-1787 (FLPMA), and the Alaska National Interest Lands Conservation Act, 16 U.S.C. 3101-3233 (ANILCA). On May 7, 2024, the BLM issued a final rule, entitled “Management and Protection of the National Petroleum Reserve in Alaska” (89 FR 38712), which became effective on June 6, 2024 (2024 Final Rule).

On July 17, 2024, the BLM published a request for information (RFI) in the Federal Register requesting public input on any need to: (1) identify additional significant resource values for existing special areas; (2) modify the boundaries or management of existing special areas; and (3) identify public lands that may qualify for designation as new special areas in the NPR-A. That public comment period closed on September 16, 2024, and on January 16, 2025, the BLM issued both a report entitled, “Maximizing Protection in the National Petroleum Reserve-Alaska,” (BLM Report) and a memorandum with the subject header, “BLM Interim Management of Special Areas within the National Petroleum Reserve-Alaska” (Interim Measures Guidance) pursuant to the NPR-A regulations at 43 CFR 2361.30. These documents made determinations regarding adding subsistence as a significant resource value for all special areas and proposed both new and expanded special areas.

Executive Order 14153, “Unleashing Alaska's Extraordinary Resource Potential,” (90 FR 8347) directs the BLM to rescind the RFI published in the Federal Register on July 17, 2024, and to rescind the Bureau's guidance on the protection of subsistence resource values in the existing special areas and proposed new and modified special areas in the NPR-A that was issued on January 16, 2025.

On June 3, 2025, the BLM published a notice in the Federal Register proposing to rescind the 2024 Final Rule because, in summary, the 2024 Final Rule would hamper the exploration, leasing, and development of oil and gas resources within the NPR-A, contrary to the congressional direction in the NPRPA to develop lands within the NPR-A, including special areas, as part of an expeditious program of oil and gas leasing; the rule is unnecessary to effectively manage surface resources in the NPR-A; and it is inconsistent with the priorities of the Trump administration.

This document notifies the public that the BLM is implementing the direction in Executive Order 14153, “Unleashing Alaska's Extraordinary Resource Potential,” (90 FR 8347) to rescind a notice published in the Federal Register on July 17, 2024, entitled “Special Areas Within the National Petroleum Reserve in Alaska” (89 FR 58181) that solicited public input on special areas for a period of 60 days.

This notice also serves to announce that the BLM is rescinding the report entitled, “Maximizing Protection in the National Petroleum Reserve-Alaska,” and the memorandum entitled, “BLM Interim Management of special areas within the National Petroleum Reserve-Alaska” that were issued on January 16, 2025.

These documents are being rescinded for the following reasons: First, the BLM did not comply with the regulations in developing the report or the interim guidance. The regulations at 43 CFR 2361.30(b)(3) direct the BLM authorized officer to provide the public and interested stakeholders with the opportunity to make recommendations about lands, significant resource values, and protection measures for special areas and to “evaluate and respond to recommendations that are made in completing its evaluation.” The BLM received more than 80,000 responses to the request, but the vast majority of those were form letters. However, many of the unique letters submitted in response to the RFI (https://www.blm.gov/alaska/report/npr-special-area-rfi-unique-responses) opposed the expansion of special areas and the addition of new significant resource values. This includes letters from small businesses, the Alaska Congressional Delegation, the oil and gas industry and trade groups, Alaska Native Corporations, local governments, and the Alaska Department of Natural Resources. The BLM Report, however, did not evaluate and respond to these public comments. Rather, it dismissed the concerns of these entities with a single line in a section entitled “Other Submissions” stating:

Likewise, the BLM received comments from some entities opposing any change in management or protections in the NPR-A, largely on procedural grounds.

This response does not comply with the requirement in 43 CFR 2361.30(b)(3) to “evaluate and respond to” public input on changes or additions to special areas. Not giving due consideration to opposing viewpoints calls into question the BLM's determinations in the BLM Report and the Interim Measures Guidance put in place to implement those determinations., This deficiency alone compels the BLM to rescind those documents.

Second, the policies contained in those documents conflict with the President's and the Department's national energy strategy that is articulated through E.O. 14153, “Unleashing Alaska's Extraordinary Resource Potential;” E.O. 14154, “Unleashing American Energy;” E.O. 14156, “Declaring a National Energy Emergency;” Secretary's Order 3417, “Addressing the National Energy Emergency;” Secretary's Order 3418, “Unleashing American Energy;” and Secretary's Order 3422, “Unleashing Alaska's Extraordinary Resource Potential.” Consistent with the direction from the President and the Secretary, the BLM's policy is to efficiently and effectively maximize the development and production of the natural resources located on Federal lands within Alaska, consistent with the statutory requirements of the NPRPA to ensure protection of surface resource values, including “the maximum protection of such surface values to the extent consistent with the requirements of this Act for the exploration of the reserve.” 42 U.S.C. 6504(a). The implementation of the BLM Report and Interim Measures Guidance would frustrate those purposes and would likely hinder the expeditious development of an oil and gas program in the Reserve as envisioned by the NPRPA. Additionally, the Interim Measures Guidance identified to protect subsistence as a significant resource value do not provide any substantive protection for subsistence use as a significant resource value and are unnecessary to effectively manage surface resources in the NPR-A.

Third, as noted above, E.O. 14153, “Unleashing Alaska's Extraordinary Resource Potential,” (90 FR 8347) directs the BLM to rescind the Bureau's guidance on the protection of subsistence resource values in the existing special areas and proposed new and modified special areas in the NPR-A that was issued on January 16, 2025.

For the reasons articulated above, the BLM is rescinding the BLM Report as well as the Interim Measures Guidance. This action is a rescission of an internal policy that was not subject to a notice and comment and does not constitute rulemaking under the Administrative Procedure Act. The BLM will continue to engage the public during project-specific National Environmental Policy Act processes and resource management planning to ensure that its decisions implement the dual mandate of the NPRPA including maximum protection of significant resource values in special areas. This change does not affect statutory obligations to conduct ANILCA sec. 810 analyses or to engage with Tribal governments and subsistence users as part of the land use planning and permitting process.

Authority: 43 U.S.C. 1701 et seq.; 42 U.S.C. 6501 et seq.; 16 U.S.C. 3101 et seq.

Kevin J. Pendergast,
State Director, Alaska.

[FR Doc. 2025-14438 Filed 7-29-25; 8:45 am]

BILLING CODE 4331-10-P